ENVIRONMENTAL PROTECTION AGENCY

[FRL-7926-1]

Environmental Justice Strategic Plan Framework and Outline

AGENCY: Environmental Protection Agency (EPA).

ACTION: Public comment period.

SUMMARY: The Office of Environmental Justice seeks public comment on: (1) The draft “Framework for Integrating Environmental Justice”; and (2) “Environmental Justice Strategic Plan Outline,” which includes proposed Environmental Justice Priorities (EJ Priorities). These two draft documents will be the foundation for the Environmental Justice Strategic Plan for 2006-2011. EPA is drafting the Environmental Justice Strategic Plan to integrate its environmental justice efforts into the Agency's planning and budgeting processes.

DATES: The Agency must receive written comments on or before July 15, 2005.

ADDRESSES: Comments should be addressed to Mr. Barry E. Hill, Director, Office of Environmental Justice, U.S. Environmental Protection Agency, 1200 Pennsylvania Avenue, NW., Mail Code 2201A, Ariel Rios South Building, Room 2226, Washington, DC 20460-0001. You may also email comments to hill.barry@epa.gov. Please identify e-mailed comments with the words “EJ Strategic Plan Comments” in the subject line

FOR FURTHER INFORMATION CONTACT: Danny Gogal, Senior Environmental Protection Specialist, EPA Office of Environmental Justice, (202) 564-2576, gogal.danny@epa.gov or Delleane McKenzie, Senior Program Analyst, EPA Office of Environmental Justice, (202) 564-6358, mckenzie.delleane@epa.gov.

SUPPLEMENTARY INFORMATION: The draft Framework identifies the proposed key elements of the EJ Strategic Plan that will help the Agency track progress and benchmark its environmental justice objectives. The draft Framework also describes the proposed link between the Environmental Justice Action Plans of the Agency's 10 regional offices and the substantive program offices (e.g., Office of Air and Radiation, Office of Solid Waste and Emergency Response) and the priorities and targets established in the EJ Strategic Plan.

The draft Outline identifies the “mission” and “vision” that will guide the EJ Strategic Plan and identifies where specific Environmental Justice Strategic Targets will be included, once they are developed. The Outline also includes 12 potential EJ Priorities, which would help focus attention on critical human health and environmental issues faced by communities with disproportionate impacts (e.g., asthma reduction, healthy schools, safe drinking water). While we will continue to take action on a wide range of environmental justice issues, using a spectrum of strategies including cross-cutting approaches (e.g., community capacity building, grants, training), we would like to select 5-7 priorities for heightened attention. Therefore, in addition to providing comments on the overall Outline, we ask that you rank the potential priorities (1 = highest priority, 12 = lowest priority) and submit your ranking with your other comments. If you have additional suggested priorities, please include those as well.

The draft “Framework for Integrating Environmental Justice” and “Environmental Justice Strategic Plan Outline,” along with responses to anticipated questions, are available online at: http://www.epa.gov/compliance/resources/reports/ej.html. A hardcopy of this document is available upon request.

Dated: June 16, 2005.
Barry E. Hill,
Director, Office of Environmental Justice.

[FR Doc. 05-12357 Filed 6-21-05; 8:45 am]

BILLING CODE 6560-50-P